DEPARTMENT OF COMMERCE

Foreign-Trade Zones Board

[Order No. 1753]

Voluntary Termination of Foreign-Trade Subzone 18B; New United Motor Manufacturing, Inc., Fremont, CA

Pursuant to its authority under the Foreign-Trade Zones Act of June 18, 1934, as amended (19 U.S.C. 81a-81u), and the Foreign-Trade Zones Board Regulations (15 CFR part 400), the Foreign-Trade Zones Board (the Board) hereby adopts the following order:

Whereas, on October 5, 1984, the Board issued a grant of authority to the City of San Jose (grantee of FTZ 18) authorizing the establishment of Foreign-Trade Subzone 18B at the New United Motor Manufacturing, Inc., facility in Fremont, California (Board Order 276, 49 FR 40626, 10/17/1984);

Whereas, the City of San Jose has advised that zone procedures are no longer needed at the facility and requested voluntary termination of Subzone 18B (FTZ Docket 11-2011); and,

Whereas, the request has been reviewed by the FTZ Staff and U.S. Customs and Border Protection officials, and approval has been recommended;

Now, therefore, the Foreign-Trade Zones Board terminates the subzone status of Subzone 18B, effective this date.

Signed at Washington, DC, this 18th day of April 2011.
Ronald K. Lorentzen,
Deputy Assistant Secretary for Import Administration, Alternate Chairman, Foreign-Trade Zones Board.

Andrew McGilvray,
Executive Secretary.

[FR Doc. 2011-10322 Filed 4-27-11; 8:45 am]

BILLING CODE P